FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 15, 2015.

A. Federal Reserve Bank of Atlanta (Chapelle Davis, Assistant Vice President) 1000 Peachtree Street NE., Atlanta, Georgia 30309:

1. Anthony T. Moore, Allison T. Moore, both of Burns, Tennessee, and Southeastern Bancorp, Inc., Dickson, Tennessee, to retain voting shares of Cumberland Bancorp, Inc., and thereby indirectly retain voting shares of Cumberland Bank & Trust, both in Clarksville, Tennessee.

B. Federal Reserve Bank of Dallas (Robert L. Triplett III, Senior Vice President) 2200 North Pearl Street, Dallas, Texas 75201-2272:

1. Thomas George Chase, Jr., Waco, Texas; to acquire voting shares of CentraBanc Corporation, and thereby indirectly acquire voting shares of Central National Bank, both in Waco, Texas.

Board of Governors of the Federal Reserve System, September 15, 2015.
Michael J. Lewandowski,
Associate Secretary of the Board.

[FR Doc. 2015-23434 Filed 9-17-15; 8:45 am]

BILLING CODE 6210-01-P